DEPARTMENT OF AGRICULTURE

Forest Service

Availability of the No Pablo Fire Environmental Assessment, Decision Notice, and Finding of No Significant Impact for an Amendment to the Huron-Manistee National Forests Land and Resource Management Plan; Alcona, Crawford, Iosco, Lake, Manistee, Mason, Mecosta, Montcalm, Muskegon, Newaygo, Oceana, Ogemaw, Oscoda, and Wexford Counties, Michigan

AGENCY: Forest Service, USDA.

ACTION: Notice of availability of the no pablo fire environmental assessment.

SUMMARY: On January 21, 2001, Huron-Manistee National Forests Supervisor James L. Schuler (Responsible Official) decided to amend the 1986 Huron-Manistee National Forests Land and Resource Management Plan (Forest Plan). Copies of the Environmental Assessment, Decision Notice, and Finding of No Significant Impact are available upon request. This amendment designates approximately 94 acres of Kirtland's warbler essential habitat, Management Area Prescription 4.5. This notice is provided pursuant to National Forest System Land and Resource Management Planning regulations (36 CFR 219.35, 65 FR 67579, November 9, 2000).

DATES: On January 21, 2001, Huron-Manistee National Forests Supervisor James L. Schuler (Responsible Official) decided to amend the 1986 Huron-Manistee National Forests Land and Resource Management Plan (Forest Plan). A legal notice will be published in the Cadillac News and Oscoda County Herald, Michigan newspapers, in accordance with 36 CFR 215.9.

ADDRESSES: Send requests for documents to: Forest Supervisor, Huron-Manistee National Forests, 1755 S. Mitchell St., Cadillac, Michigan 49601.

Alternatively, direct electronic mail to: r9huronmanistee@fs.fed.us Attn: Plan Amendment.

FOR FURTHER INFORMATION CONTACT: James DiMaio, Forest Planner, at 231-775-5023 (8759); TDD 231-745-7701; or direct electronic mail to: r9huronmanistee@fs.fed.us.

Responsible Official: James L. Schuler, Forest Supervisor, 1755 S. Mitchell St. Cadillac, Michigan 49601

SUPPLEMENTARY INFORMATION: Approximately 94 acres of National Forest System lands have been designated as management prescription 4.5 to provide for the Kirtlands' warbler—an endangered species. This is a minor amendment to the Huron-Manistee National Forests Land and Resource Management Plan. This is a non-significant amendment.

Public involvement was an important part of the decision making process for this proposal. On August 11, 2000, we started scoping with mailing of letters to interested parties and a news release to the local newspapers. A second round of public involvement occurred with the issuance of the pre-decisional environmental assessment on November 3, 2000. At the same time, we published a legal notice notifying the public of the availability of the EA for review in the Cadillac News, Cadillac, Michigan, and Oscoda County Herald, Mio, Michigan.

This decision is subject to appeal pursuant to USDA-Forest Service regulations 36 CFR 215.7. Any written appeal must be postmarked or submitted to the Regional Forester, USDA-Forest Service, Easter Region, 310 West Wisconsin Avenue, Suite 500, Milwaukee, WI 53203, within 45 days of the date the legal notice was published in the Cadillac News, Cadillac, Michigan, in accordance with 36 CFR 215.13. The appeal period begins the day following the legal notice publication in the Cadillac News. Appeals must meet the content requirement of 36 CFR 215.14. The Forest Service is an equal opportunity organization.

Dated: January 12, 2001.
James L. Schuler,
Forest Supervisor.

[FR Doc. 01-4565 Filed 2-23-01; 8:45 am]

BILLING CODE 3410-11-M